DEPARTMENT OF HEALTH AND HUMAN SERVICES

National Institutes of Health

National Institute of Allergy and Infectious Diseases Cancellation of Meeting

Notice is hereby given of the cancellation of the National Institute of Allergy and Infectious Diseases Special Emphasis Panel, September 10, 2014, 10:00 a.m. to September 10, 2014, 12:00 p.m., National Institutes of Health, 6700B Rockledge Drive, Room 3124, Bethesda, MD 20817 which was published in the Federal Register on August 15, 2014, 79FR48173.

The Review Committee will not meet because the application was withdrawn.

Dated: August 19, 2014.
David Clary,
Program Analyst, Office of Federal Advisory Committee Policy.

[FR Doc. 2014-20057 Filed 8-22-14; 8:45 am]

BILLING CODE 4140-01-P